DEPARTMENT OF THE TREASURY

Community Development Financial Institutions Fund

Notice of Funds Availability

Funding Opportunity Title: Change to Notice of Funds Availability (NOFA) inviting Applications for Financial Assistance (FA) or Technical Assistance (TA) awards under the Community Development Financial Institutions Program (CDFI Program) fiscal year (FY) 2024 Funding Round.

Action: Technical correction to the deadlines within Table 12 in the NOFA.

Funding Opportunity Number: CDFI-2024-FATA

Catalog of Federal Domestic Assistance (CFDA) Number: 21.020

Executive Summary: On December 11, 2023, the Community Development Financial Institutions Fund (CDFI Fund) published a Notice of Funds Availability (NOFA) inviting Applications for Financial Assistance (FA) or Technical Assistance (TA) awards under the Community Development Financial Institutions Program (CDFI Program) fiscal year (FY) 2024 Funding Round. The CDFI Fund is issuing this notice to correct the deadlines contained within Table 12 of the NOFA. The corrected deadlines are listed in Table A below.

In the Federal Register/Vol. 88, No. 236/Monday, December 11, 2023/Notices. On page 85986, Table 12—FY 2024 CDFI Program Funding Round Critical Deadlines For Applicants, is replaced with the table that follows (Table A.)

Table A—Corrected FY 2024 CDFI Program Funding Round Critical Deadlines for Applicants
Description | Table 12 deadline | Corrected deadline | Time (Eastern Time—ET) | Submission method
Last day to create an Awards Management Information Systems (AMIS) Account (all Applicants) | January 5, 2024 | January 16, 2024 | 11:59 p.m. ET | AMIS.
Last day to enter EIN and UEI in AMIS (all Applicants) | January 5, 2024 | January 16, 2024 | 11:59 p.m. ET | AMIS.
Last day to submit SF-424 (Application for Federal Assistance) | January 5, 2024 | January 16, 2024 | 11:59 p.m. ET | Electronically via Grants.gov.
Last day to contact CDFI Program staff | February 2, 2024 | February 13, 2024 | 5:00 p.m. ET | Service Request via AMIS, Or, CDFI Fund Helpdesk: 202-653-0421.
Last day to contact AMIS-IT Help Desk (regarding AMIS technical problems only) | February 6, 2024 | February 15, 2024 | 5:00 p.m. ET | Service Request via AMIS, Or, 202-653-0422, Or, AMIS@cdfi.treas.gov.
Last day to submit Title VI Compliance Worksheet (all Applicants)* | February 6, 2024 | February 15, 2024 | 11:59 p.m. ET | AMIS.
Last day to submit CDFI Program Application for Financial Assistance (FA) or Technical Assistance (TA) | February 6, 2024 | February 15, 2024 | 11:59 p.m. ET | AMIS.
Last day to contact Certification, Compliance Monitoring and Evaluation (CCME) Help Desk regarding CDFI Certification Applications for uncertified FA Applicants | February 2, 2024 | March 1, 2024 | 11:59 p.m. ET | Service Request via AMIS.
Last day to submit CDFI Certification Applications for uncertified FA Applicants | February 6, 2024 | March 5, 2024 | 11:59 p.m. ET | AMIS.
* This requirement also applies to Applicants' prospective sub-recipients that are not direct beneficiaries of Federal financial assistance (e.g., Depository Institution Holding Companies and their Subsidiary CDFI Insured Depository Institutions).

All other deadlines shall remain in accordance with the NOFA published on December 11, 2023.

I. Agency Contacts

A. General Information and CDFI Fund Support

The CDFI Fund will respond to questions concerning the NOFA and the Application between the hours of 9:00 a.m. and 5:00 p.m. Eastern Time, starting on the date that the NOFA was published through the dates listed in this notice. The CDFI Fund strongly recommends Applicants submit questions to the CDFI Fund via an AMIS service request to the CDFI Program, Office of Certification Policy and Evaluation, the Office of Compliance Monitoring and Evaluation, or IT Help Desk. Other information regarding the CDFI Fund and its programs may be obtained from the CDFI Fund's website at http://www.cdfifund.gov.

B. The CDFI Fund's Contact Information Is as Follows

Table B—Contact Information
Type of question | Preferred method | Telephone number (not toll free) | Email addresses
CDFI Program Questions | Service Request via AMIS | 202-653-0421, Option 1 | cdfihelp@cdfi.treas.gov.
CDFI Certification | Service Request via AMIS | 202-653-0423 | ccme@cdfi.treas.gov.
Compliance Monitoring and Evaluation | Service Request via AMIS | 202-653-0423 | ccme@cdfi.treas.gov.
AMIS—IT Help Desk | Service Request via AMIS | 202-653-0422 | AMIS@cdfi.treas.gov.

C. Communication With the CDFI Fund

The CDFI Fund will use the contact information in AMIS to communicate with Applicants and Recipients. It is imperative therefore, that Applicants, Recipients, Subsidiaries, Affiliates, and signatories maintain accurate contact information in their accounts. This includes information such as contact names (especially for the Authorized Representative), email addresses, fax and phone numbers, and office locations. For more information about AMIS, please see the AMIS Landing Page at https://amis.cdfifund.gov.

Authority: 12 U.S.C. 4701, et seq; 12 CFR parts 1805 and 1815; 2 CFR part 200.

Dated: December 11, 2023.
Marcia Sigal,
Acting Director, Community Development Financial Institutions Fund.

[FR Doc. 2023-27597 Filed 12-14-23; 8:45 am]

BILLING CODE 4810-05-P